DEPARTMENT OF TRANSPORTATION

Federal Aviation Administration

Notice of Intent To Rule on Application 01-05-C-00-BTM To Impose and Use the Revenue From a Passenger Facility Charge (PFC) at Bert Mooney Airport, Butte, Montana Submitted by the Bert Mooney Airport Authority, Butte, Montana

AGENCY: Federal Aviation Administration (FAA), DOT.

ACTION: Notice of intent to rule on application.

SUMMARY: The FAA proposes to rule and invites public comment on the application to impose and use PFC revenue at Bert Mooney Airport, Butte, Montana under the provisions of 49 U.S.C. 40117 and Part 158 of the Federal Aviation Regulations (14 CFR Part 158).

DATES: Comments must be received on or before March 28, 2001.

ADDRESSES: Comments on this application may be mailed or delivered in triplicate to the FAA at the following address: David P. Gabbert, Manager; Helena Airports District Office; Federal Aviation Administration; 2725 Skyway Drive, Suite 2; Helena, Montana 59602.

In addition, one copy of any comments submitted to the FAA must be mailed or delivered to Mr. Rick Griffith, Airport Manager, at the following address: Bert Mooney Airport, 101 Airport Road, Butte, Montana 59701.

Air Carriers and foreign air carriers may submit copies of written comments previously provided to Bert Mooney Airport, under § 158.23 of Part 158.

FOR FURTHER INFORMATION CONTACT: David P. Gabbert, Manager; Helena Airports District Office; Federal Aviation Administration; 2725 Skyway Drive, Suite 2; Helena, Montana 59602; Phone (406) 449-5271. The application may be reviewed in person at this same location.

SUPPLEMENTARY INFORMATION: The FAA proposes to rule and invites public comment on the application 01-05-C-00-BTM to impose and use PFC revenue at Bert Mooney Airport, under the provisions of 49 U.S.C. 40117 and Part 158 of the Federal Aviation Regulations (14 CFR Part 158).

On February 20, 2001, the FAA determined that the application to impose and use the revenue from a PFC submitted by Bert Mooney Airport Authority, Bert Mooney Airport, Butte, Montana was substantially complete within the requirements of § 158.25 of Part 158. The FAA will approve or disapprove the application, in whole or in part, no later than May 22, 2001.

The following is a brief overview of the application.

Level of the proposed PFC: $3.00.

Proposed charge effective date: 8/1/01.

Proposed charge expiration date: 3/31/06.

Total requested for use approval: $185,780.

Brief description of proposed project: Snow removal equipment, security fence, Passenger access lift, Pavement survey, Rehabilitate taxiways C and D, Distance-to-go signs and Runway End Indicator Lights and Radio equipment replacement.

Class or classes of air carriers which the public agency has requested not be required to collect PFC's: On demand non-scheduled Air Taxi/Commercial operators.

Any person may inspect the application in person at the FAA office listed above under FOR FURTHER INFORMATION CONTACT and at the FAA Regional Airports Office located at: Federal Aviation Administration, Northwest Mountain Region, Airports Division, ANM-600, 1601 Lind Avenue SW., Suite 540, Renton, WA 98055-4056.

In addition, any person may, upon request, inspect the application, notice and other documents germane to the application in person at the Bert Mooney Airport.

Issued in Renton, Washington on February 20, 2001.
David A. Field,
Manager, Planning, Programming and Capacity Branch, Northwest Mountain Region.

[FR Doc. 01-4684 Filed 2-23-01; 8:45 am]

BILLING CODE 4910-13-M